NUCLEAR REGULATORY COMMISSION

[Docket Nos. 50-220 and 50-410, License Nos. DPR-63 and NPF-69]

In the Matter of Niagara Mohawk Power Corporation, et al., Nine Mile Point Nuclear Station, Unit Nos. 1 and 2, Correction of Order Approving Transfer of Licenses and Conforming Amendments

I

On June 29, 2001 (66 FR 34723), the NRC staff published an Order approving the direct transfer of Facility Operating Licenses Nos. DPR-63 and NPF-69, for the Nine Mile Point Nuclear Station, Unit Nos. 1 and 2 (NMP1 and NMP2), to Nine Mile Point Nuclear Station, LLC (NMP LLC), indirect transfers pertaining to the associated corporate structure changes of NMP LLC's corporate parent, and conforming amendments. Subsequently, the NRC staff noted that the Order contains an inadvertent error, in that the wording “as required under 10 CFR 50.75(f)(1), unless otherwise approved by the NRC” should not have been included in condition (2). Accordingly, the staff has corrected this error. The corrected condition (2) now reads: “On the closing date of the transfer of NMP1 and NMP2 to it, NMP LLC shall: (1) obtain from the transferors all of their accumulated decommissioning trust funds for NMP1 and NMP2, respectively, and (2) receive [a] parent company guarantee[s] pursuant to 10 CFR 50.75(e)(1)(iii)(B) (to be updated annually) in a form acceptable to the NRC and in [an] amount[s] which, when combined with the decommissioning trust funds for NMP1 and NMP2, equals or exceeds the total amounts required for NMP1 and NMP2, respectively, pursuant to 10 CFR 50.75(b) and (c).”

For further details with respect to this Order, see the initial application dated February 1, 2001, the supplemental submittals dated March 1, March 16, March 29, April 5, April 27, May 30 and June 7, 2001, and the safety evaluation dated June 22, 2001, which are available for public inspection at the Commission's Public Document Room, located at One White Flint North, 11555 Rockville Pike (first floor), Rockville, Maryland, and accessible electronically through the ADAMS Public Electronic Reading Room link at the NRC Web site (http://www.nrc.gov).

Dated at Rockville, Maryland this 18th day of September 2001.
For the Nuclear Regulatory Commission.
Peter S. Tam,
Senior Project Manager, Section 1, Project Directorate I, Division of Licensing Project Management, Office of Nuclear Reactor Regulation.

[FR Doc. 01-24049 Filed 9-25-01; 8:45 am]

BILLING CODE 7590-01-P